DEPARTMENT OF ENERGY

Federal Energy Regulatory Commission

[Docket No. AD16-18-000]

Competitive Transmission Development Technical Conference; Further Supplemental Notice of Technical Conference

As announced in the Notice of Technical Conference issued on March 17, 2016, and the Supplemental Notice of Technical Conference and Request for Speakers issued on May 10, 2016, the Federal Energy Regulatory Commission will hold a Commissioner-led technical conference on June 27, 2016, from approximately 1 p.m. to 5 p.m., and on June 28, 2016, from approximately 9 a.m. to 5 p.m., at the Commission's headquarters at 888 First Street, NE., Washington, DC 20426. The purpose of the technical conference is to discuss issues related to competitive transmission development processes, including, but not limited to, the use of cost containment provisions, the relationship of competitive transmission development to transmission incentives, and other ratemaking issues.¹ In addition, participants will have the opportunity to discuss issues relating to interregional transmission coordination and regional transmission planning as well as other transmission development issues.²

¹ Topics to be discussed include, but are not limited to, those that the Commission described in NextEra Energy Transmission West, LLC, 154 FERC ¶ 61,009, at PP 76-78 (2015) and ITC Grid Development, LLC, 154 FERC ¶ 61,206, at P 49 (2016).

² See Northern Indiana Public Service Co. v. Midcontinent Independent System Operator, Inc. and PJM Interconnection L.L.C., 155 FERC ¶ 61,058, at P 54 (2016).

An updated Agenda for the technical conference, including speakers, is attached.

The conference will be open for the public to attend. Information on the technical conference will also be posted on the Calendar of Events on the Commission's Web site, http://www.ferc.gov, prior to the event. Advance registration is not required but is encouraged. Attendees may register at the following Web page: https://www.ferc.gov/whats-new/registration/06-27-16-form.asp.

This event will be webcast and transcribed. Anyone with internet access can navigate to the “FERC Calendar” at www.ferc.gov, and locate the technical conference in the Calendar of Events. Opening the technical conference in the Calendar of Events will reveal a link to its webcast. The Capitol Connection provides technical support for the webcast and offers the option of listening to the meeting via phone-bridge for a fee. If you have any questions, visit www.capitolconnection.org or call 703-993-3100. The webcast will be available on the Calendar of Events at www.ferc.gov for three months after the conference. Transcripts of the conference will be immediately available for a fee from Ace-Federal Reporters, Inc. (202-347-3700).

Commission conferences are accessible under section 508 of the Rehabilitation Act of 1973. For accessibility accommodations, please send an email to accessibility@ferc.gov or call toll free 1-866-208-3372 (voice) or 202-502-8659 (TTY), or send a FAX to 202-208-2106 with the required accommodations.

Interested parties may submit post-technical conference comments for consideration in Docket No. AD16-18-000.

While this conference is not for the purpose of discussing specific cases, we note that the discussions at the conference may address matters at issue in the following Commission proceedings that are either pending or within their rehearing period:

| Docket Nos.
ISO New England Inc | RT04-2 & ER09-1532
Midwest Independent Transmission System Operator, Inc | ER11-1844
Northern Indiana Public Service Company v. Midcontinent Independent System Operator, Inc. and PJM Interconnection, L.L.C | EL13-88
New York Independent System Operator, Inc | ER13-102
PJM Interconnection, L.L.C | ER13-1924
PJM Interconnection, L.L.C | ER13-1942
PJM Interconnection, L.L.C | ER13-1944
PJM Interconnection, L.L.C | ER13-1945
PJM Interconnection, L.L.C | ER14-972
PJM Interconnection, L.L.C | ER14-1485
Xcel Energy Southwest Transmission Co., LLC | ER14-2751
Consolidate Edison Company of New York, Inc. v. PJM Interconnection, L.L.C | EL15-18
Linden VFT, LLC v. PJM Interconnection, L.L.C | EL15-67
TranSource, LLC v. PJM Interconnection, L.L.C | EL15-79
Delaware Public Service Commission and Maryland Public Service Commission v. PJM and Certain Transmission Owners Designated Under Attachment A to the Consolidated Transmission Owners Agreement | EL15-95
San Diego Gas & Electric Company | EL15-103
New York Transco, LLC | ER15-572
PJM Interconnection, L.L.C | ER15-1344
PJM Interconnection, L.L.C | ER15-1387
New York Independent System Operator, Inc | ER15-2059
NextEra Energy Transmission West, LLC | ER15-2239
PJM Interconnection, L.L.C | ER15-2562
PJM Interconnection, L.L.C | ER15-2563
Southwestern Public Service Co. and Xcel Energy Southwest Transmission Co., LLC | EC16-64
Pacific Gas and Electric Company | EL16-47
DesertLink, LLC | EL16-68
Boundless Energy NE., LLC v. New York Independent System Operator, Inc | EL16-84
New York Independent System Operator, Inc | ER16-120
PJM Interconnection, L.L.C | ER16-453
PJM Interconnection, L.L.C | ER16-736
New York Independent System Operator, Inc | ER16-835
New York Independent System Operator, Inc | ER16-966
PJM Interconnection, L.L.C | ER16-1232
PJM Interconnection, L.L.C | ER16-1335
PJM Interconnection, L.L.C | ER16-1499
Midcontinent Independent System Operator, Inc | ER16-1534

For more information about this technical conference, please contact:

Sarah McKinley (Logistical Information), Office of External Affairs, (202) 502-8004, sarah.mckinley@ferc.gov

David Tobenkin (Technical Information), Office of Energy Policy and Innovation, (202) 502-6445, david.tobenkin@ferc.gov

Zeny Magos (Technical Information), Office of Energy Market Regulation, (202) 502-8244, zeny.magos@ferc.gov

Erica Siegmund Hough (Legal Information), Office of General Counsel, (202) 502-8251, erica.siegmund@ferc.gov

Dated: June 20, 2016.
Kimberly D. Bose,
Secretary.

[FR Doc. 2016-15197 Filed 6-27-16; 8:45 am]

BILLING CODE 6717-01-P